NATIONAL AERONAUTICS AND SPACE ADMINISTRATION

[Notice (03-007)]

NASA Advisory Council, Aerospace Technology Advisory Committee, Revolutionize Aviation Subcommittee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Aerospace Technology Advisory Committee (ATAC), Revolutionize Aviation Subcommittee (RAS).

DATES: Tuesday, February 25, 2003, 8 a.m. to 4:30 p.m.

ADDRESSES: National Aeronautics and Space Administration, Room 7H46, 300 E Street, SW., Washington, DC 20546.

FOR FURTHER INFORMATION CONTACT: Ms. Bernice E. Lynch, Office of Aerospace Technology, National Aeronautics and Space Administration, Washington, DC 20546 (202) 358-4594.

SUPPLEMENTARY INFORMATION: The meeting will be open to the public up to the seating capacity of the room. The agenda for the meeting is as follows:

—Welcome/Review Actions

—Working Group Reports

—Aeronautics Technology Update

—Discussion on Integrated Results of Working Groups

—SATS Update & ASRS Subcommittee Briefings

—Next Steps/Action Summary

It is imperative that the meeting be held on these dates to accommodate the scheduling priorities of the key participants. Due to the increased security at NASA facilities, any members of the public who wish to attend the Revolutionize Aviation Subcommittee meeting must provide their name, date and place of birth, citizenship, social security number, passport or visa information (number, country of issuance and expiration), business address, and phone number. This information is to be provided at least 72 hours prior to the date of the public meeting (5 p.m. EDT on February 19, 2003). Identification information is to be provided to Bernice E. Lynch, 202/358-4594, blynch@hq.nasa.gov. Failure to timely provide such information may result in denial of attendance. Photo identification may be required for entry into the building. Persons with disabilities who require assistance should indicate this in their message. Due to limited availability of seating, members of the public will be admitted on a first-come, first-serve basis. News media wishing to attend the meeting should follow standard accreditation procedures. Members of the press who have questions about these procedures should contact the NASA Headquarters newsroom (202) 358-1600.

June W. Edwards,
Advisory Committee Management Officer, National Aeronautics and Space Administration.

[FR Doc. 03-2451 Filed 1-31-03; 8:45 am]

BILLING CODE 7510-10-P